FEDERAL COMMUNICATIONS COMMISSION

47 CFR Part 73

[MB Docket No. 11-87; RM-11628; DA 11-1916]

Radio Broadcasting Services; Bastrop, LA

AGENCY: Federal Communications Commission.

ACTION: Final rule.

SUMMARY: The Audio Division, at the request of Kenneth W. Diebel (“Petitioner”), deletes FM Channel 230A and allots FM Channel 228A at Bastrop, Louisiana. The purpose of the proposed channel substitution is to accommodate Petitioner's pending application to upgrade FM Station KGGM, Delhi, Louisiana, to Channel 230C3. Channel 228A can be allotted at Bastrop, consistent with the minimum distance separation requirements of the Commission's rules, at coordinates 32-48-20 NL and 91-52-5 WL, with a site restriction of 7.2 km (4.5 miles) northeast of the community See SUPPLEMENTARY INFORMATION infra.

DATES: Effective December 26, 2011.

FOR FURTHER INFORMATION CONTACT: Deborah Dupont, Media Bureau, (202) 418-2180.

SUPPLEMENTARY INFORMATION: This is a synopsis of the Commission's Report and Order, MB Docket No. 11-87, adopted November 17, 2011, and released November 18, 2011. The full text of this Commission decision is available for inspection and copying during normal business hours in the FCC Information Center, Portals II, 445 12th Street SW., Room CY-A257, Washington, DC 20554. The complete text of this decision also may be purchased from the Commission's duplicating contractor, Best Copy and Printing, Inc., 445 12th Street SW., Room CY-B402, Washington, DC 20554, (800) 378-3160, or via the company's Web site, www.bcpiweb.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506 (c)(4). The Commission will send a copy of this Report and Order in a report to be sent to Congress and the Government Accountability Office pursuant to the Congressional Review Act, see U.S.C. 801(a)(1)(A).

Channel 230A is not listed in the FM Table of Allotments. Vacant Channel 230A at Bastrop was inadvertently removed from the FM Table of Allotments in MB Docket 05-210 (see 71 FR 76208, published December 20, 2006), but the channel will not be restored to the Table; instead, under the provisions of this Report and Order, the FM Table of Allotments is amended by adding Channel 228A at Bastrop, Louisiana.

List of Subjects in 47 CFR Part 73

Radio.

Federal Communications Commission.
Nazifa Sawez,
Assistant Chief, Audio Division, Media Bureau.

Final Rule

For the reasons discussed in the preamble, the Federal Communications Commission amends 47 CFR part 73 as follows:

PART 73—RADIO BROADCAST SERVICES

1. The authority citation for part 73 continues to read as follows:

Authority: 47 U.S.C. 154, 303, 334, 336, and 339.

§ 73.202 [Amended]

2. Section 73.202(b), the Table of FM Allotments under Louisiana, is amended by adding Bastrop, Channel 228A.

[FR Doc. 2011-32715 Filed 12-20-11; 8:45 am]

BILLING CODE 6712-01-P